DEPARTMENT OF ENERGY

Federal Energy Regulatory Commission

[Docket No. CP08-188-000]

Northern Natural Gas Company; Notice of Request Under Blanket Authorization

May 8, 2008.

Take notice that on April 25, 2008, Northern Natural Gas Company (Northern), 1111 South 103rd Street, Omaha, Nebraska 68124, filed in Docket No. CP08-188-000, a prior notice request pursuant to sections 157.205 and 157.211 of the Federal Energy Regulatory Commission's regulations under the Natural Gas Act for authorization to install and operate a new meter station, located in Pine County, Minnesota, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Northern proposes to install and operate a new meter station to accommodate natural gas deliveries to the Corporate Commission of the Mille Lacs Band of Ojibwe Indians d/b/a Grand Casino Hinckley under a throughput service agreement. Northern proposes to install a skid-mounted station, which will include buildings, a heater, regulators, a meter, and associated piping, fittings, and valves. Northern estimates the cost of construction to be $276,558. Northern states that the new meter station will have the capability of delivering up to 980 MMcf per day.

Any questions regarding the application should be directed to Michael T. Loeffler, Senior Director, Certificates and External Affairs, or Donna Martens, Senior Regulatory Analyst, Northern Natural Gas Company, 1111 South 103rd Street, Omaha, Nebraska 68124, at (402) 398-7103 or at (402) 398-7138, respectively.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E8-10960 Filed 5-15-08; 8:45 am]

BILLING CODE 6717-01-P